FEDERAL ELECTION COMMISSION

11 CFR Parts 100, 114, and 117

[Notice 2002-2]

The Internet and Federal Elections; Candidate-Related Materials on Web Sites of Individuals, Corporations and Labor Organizations

AGENCY: Federal Election Commission.

ACTION: Notice of Public Hearing.

SUMMARY: The Federal Election Commission is announcing a public hearing on proposed changes to its regulations to clarify the status of campaign-related Internet activity conducted by individuals, and of hyperlinks and endorsement press releases on Internet Web sites established by corporations and labor organizations.

DATES: The hearing will be held at 10 a.m. on Wednesday, March 20, 2002. Requests to testify must be received on or before March 1, 2002. Persons requesting to testify also must submit written comments by March 1, 2002, if they have not previously filed written comments on the proposed rules.

ADDRESSES: Requests to testify and any accompanying comments should be addressed to Rosemary C. Smith, Assistant General Counsel, and must be submitted in either written or electronic form. Written comments should be sent to the Federal Election Commission, 999 E Street, NW., Washington, DC 20463. Faxed comments should be sent to (202) 219-3923, with printed copy follow-up to insure legibility. Electronic mail comments should be sent to internetnprm@fec.gov. Persons sending requests and comments by electronic mail must include their full name, electronic mail address and postal service address within the text of the request or comments. Commission hearings are held in the Commission's ninth floor meeting room, 999 E Street, NW., Washington, DC.

FOR FURTHER INFORMATION CONTACT: Rosemary C. Smith, Assistant General Counsel, or Richard T. Ewell, Staff Attorney, 999 E Street, NW., Washington, DC 20463, (202) 694-1650 or (800) 424-9530.

SUPPLEMENTARY INFORMATION: On October 3, 2001, the Commission published a Notice of Proposed Rulemaking [“NPRM”] addressing three issues relating to the use of the Internet for campaign-related activity: (1) The application of the volunteer exemption in 2 U.S.C. 431(8)(B)(i) and (ii) to Internet activity by individuals; (2) The status of hyperlinks placed on corporate and labor organization Web sites; and (3) The status of corporate and labor organization press releases that announce candidate endorsements and are made available to the general public on the corporation or labor organization's Web site. 66 FR 50358, et seq. (Oct. 3, 2001). The comment period for the NPRM ended on December 3, 2001. Twenty-four comments were received by the Commission in response to the NPRM. Two commenters requested to testify at a public hearing if one is held.

After considering these requests and the other comments received to date in response to the NPRM, the Commission believes a public hearing would be helpful in considering the issues raised in the rulemaking. The hearing will be held at 10 a.m. on March 20, 2002.

Dated: February 8, 2002.
David M. Mason,
Chairman, Federal Election Commission.

[FR Doc. 02-3632 Filed 2-13-02; 8:45 am]

BILLING CODE 6715-01-P